DEPARTMENT OF VETERANS AFFAIRS

Notice of Availability of the Draft Programmatic Environmental Impact Statement of the Department of Veterans Affairs Housing Loan Program

AGENCY: Department of Veterans Affairs (VA).

ACTION: Notice of availability.

SUMMARY: VA announces the availability of the Draft Programmatic Environmental Impact Statement (PEIS) for the Housing Loan Program (HLP) for public review and comment. The Draft PEIS identifies, analyzes and documents the potential physical, environmental, cultural, socioeconomic and cumulative impacts of continued administration and operation of VA's HLP. The comprehensive HLP, which is managed by VA's Veterans Benefits Administration (VBA), administers VA-guaranteed housing loan benefits and other housing-related benefits that assist eligible Veterans, surviving spouses, active duty personnel, Selected Reservists and National Guardsmen (collectively referred to as Veterans) in purchasing, constructing, repairing, adapting, or improving a home.

DATES: VA invites Federal, state, tribal and local entities; non-profit organizations; businesses; interested parties; and the general public to submit written comments on the Draft PEIS during the 45-day public comment period that ends August 30, 2021.

ADDRESSES: Written comments may be submitted through http://www.regulations.gov. The Draft PEIS is available for viewing at the VA website https://www.benefits.va.gov/homeloans/environmental_impact.asp. Due to the COVID-19 pandemic, virtual public presentations will be available in lieu of public hearings, and the presentations will be continually accessible through the project website. Printed copies of the document may be obtained by contacting VA at VAHLPNEPA.VBAVACO@va.gov.

FOR FURTHER INFORMATION CONTACT: Elysium Drumm, Supervisory Management Analyst, Loan Guaranty Service, Veterans Benefits Administration, Department of Veterans Affairs, 810 Vermont Avenue NW, Washington, DC 20420, 202-632-8862 (This is not a toll-free number.) or VAHLPNEPA.VBAVACO@va.gov.

SUPPLEMENTARY INFORMATION: The Draft PEIS was developed pursuant to the National Environmental Policy Act (NEPA) of 1969, as amended (42 U.S.C. 4321, et seq.), the Council on Environmental Quality's regulations for implementing the procedural provisions of NEPA (40 CFR 1500-1508) and VA's NEPA regulations titled “Environmental Effects of the Department of Veterans Affairs Actions” (38 CFR 26).

The most significant element of the HLP is the provision of housing benefits that assist eligible Veterans in financing the purchase, construction, repair, or improvement of a home for their personal occupancy. See 38 U.S.C. 3701 et seq. VBA provides Federal assistance in the form of loans made, insured, or guaranteed by VA. VBA is also responsible for the management, marketing and disposition of real estate owned properties that VA acquires following the foreclosure of certain VA-guaranteed loans and loans held in VA's portfolio. Under HLP, VA also provides direct loans to Native American Veterans to purchase homes on trust, tribal, or communally-owned lands, and HLP extends grants for home adaptations to Veterans with service-connected disabilities through the Specially Adapted Housing program. HLP provides what can be, for some Veterans, their sole opportunity to obtain crucial housing loans and grants.

Through the PEIS, VA is using the NEPA process to evaluate the potential physical, environmental, cultural, socioeconomic and cumulative effects of HLP; to invite public comments; and to assist with and inform future agency planning and decision- making related to HLP. The PEIS evaluates HLP, which assists hundreds of thousands of Veterans each year across the United States and its territories, to ensure VA appropriately considers the human environmental elements and effects specified in 40 CFR 1508.8 (including ecological, aesthetic, historic, cultural, economic, social, or health, whether direct, indirect, or cumulative) in carrying out the various elements and aspects of the program. Environmental topics that have been addressed in the Draft PEIS include the following: Aesthetics; air quality; biological resources; cultural resources; floodplains, wetlands and coastal zones; geology and soils; hydrology and water quality; infrastructure and community services; land use and planning; noise; and socioeconomics and environmental justice. The PEIS also identifies and analyzes potential cumulative impacts, which are the potential incremental impacts on the environment resulting from continued administration and operation of the HLP in combination with other past, present and reasonably foreseeable future actions from other relevant Federal and non-Federal programs.

The PEIS is atypical in that it addresses an existing program, and VA has no specific or immediate need to change its operational structure or procedures to address environmental impacts. Furthermore, the making of loan guaranties, direct loans and grants do not typically result in direct environmental impacts. Environmental impacts, if they occur, would be the result of private citizen actions (e.g., construction of a house funded by VA-guaranteed loan financing) related to a specific property. In this case, the primary environmental impacts of concern for VA would be the potential indirect impacts from homeowner actions and the potentially significant cumulative impacts of small incremental actions on local and regional resources.

Signing Authority

Denis McDonough, Secretary of Veterans Affairs, approved this document on March 29, 2021, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2021-15014 Filed 7-15-21; 8:45 am]

BILLING CODE 8320-01-P